DEPARTMENT OF THE INTERIOR

National Park Service

[NPS-AKR-KATM-9814; 9926-0902-525]

Draft Environmental Impact Statement on Brooks River Visitor Access for Katmai National Park and Preserve

AGENCY: National Park Service, Interior.

ACTION: Notice of availability of the Draft Environmental Impact Statement on Brooks River Visitor Access for Katmai National Park and Preserve.

SUMMARY: The National Park Service (NPS) announces the availability of a Draft Environmental Impact Statement (DEIS) on Brooks River Visitor Access for Katmai National Park and Preserve. The document evaluates the environmental impacts of four action alternatives that include bridge and boardwalk systems to replace the existing Brooks River floating bridge and sites to relocate the existing Naknek Lake barge landing area at the mouth of the Brooks River. A no-action alternative is also evaluated. If implemented, this EIS would amend the access provisions of the 1996 Brooks River Area Final Development Concept Plan and Environmental Impact Statement.

This notice announces the public comment period, the locations of public meetings, and solicits comments on the DEIS.

DATES: Comments on the DEIS must be received no later than August 21, 2012.

ADDRESSES: Written comments on the DEIS should be submitted to Glen Yankus, National Park Service, 240 West 5th Avenue, Anchorage, Alaska 99501.

Submit comments electronically through the NPS Planning, Environment and Public Comment system (PEPC) at http://parkplanning.nps.gov. The DEIS may be viewed and retrieved at this Web site as well. Hard copies of the DEIS are available by request from the aforementioned address. See SUPPLEMENTARY INFORMATION for the locations of public meetings.

FOR FURTHER INFORMATION CONTACT: Glen Yankus, National Park Service, Telephone: (907) 644-3535.

SUPPLEMENTARY INFORMATION: Five alternatives for access at the Brooks River area of Katmai National Park are presented in the EIS. Alternative 1 (the no-action alternative) presents a continuation of current management direction and is included as a baseline for comparing the consequences of implementing each alternative. Alternatives 2-5 present different ways of providing access to and within the Brooks River area.

Alternative 1 (No Action): This alternative represents a continuation of the existing situation. The no-action alternative would maintain seasonal use of the floating bridge, which is 8 feet wide and about 320 feet long. The bridge would be used by both pedestrians and light utility vehicles. NPS would continue to install and remove the bridge each spring and fall. The existing barge landing and associated road would remain on the south side of Brooks River.

Alternative 2: This alternative evaluates construction of a new bridge and boardwalk system across the Brooks River. This alternative calls for a three-span bridge about 360 feet in length. This bridge would have an 8-foot-wide wooden bridge deck with a steel truss on each side, and span 120 feet between steel pile foundations. The bridge and boardwalk system would have a total estimated length of 1,600 feet. A barge landing would be located on the shore of Naknek Lake about 2,000 feet south of the existing barge landing. A new access road, approximately 1,500 feet long and 14 feet wide, would be constructed to intersect the Valley Road and extend to the new barge landing site on Naknek Lake.

Alternative 3: This alternative evaluates construction of a new bridge and boardwalk system across the Brooks River. The bridge would be a pre-engineered bridge approximately 415 feet in length. The bridge and boardwalk system would have a total estimated length of 850 feet. A new barge landing site would be located approximately 200 feet south of the mouth of the Brooks River. A new road segment (about 100 ft. long) would be constructed from the existing access road and extend to a new Naknek Lake barge landing site.

Alternative 4 (NPS Preferred Alternative): This alternative evaluates construction of a new wooden bridge and boardwalk system across the Brooks River. The bridge would be approximately 350 feet in length with a minimum distance of 24 feet between piles. The bridge and boardwalk system would have a total estimated length of 1,550 feet. A barge landing would be located on the shore of Naknek Lake about 2,000 feet south of the existing barge landing. A new access road, approximately 1,500 feet long and 14 feet wide, would intersect the Valley Road and extend to the new barge landing site on Naknek Lake.

Alternative 5: This alternative evaluates construction of a new wooden bridge and boardwalk system across the Brooks River. The bridge would be approximately 350 feet in length with a minimum distance of 24 feet between piles. The bridge and boardwalk system would have a total estimated length of 1,100 feet. A barge landing would be located on the shore of Naknek Lake about 2,000 feet south of the existing barge landing. A new access road, approximately 1,500 feet long and 14 feet wide, would intersect the Valley Road and extend to the new barge landing site on Naknek Lake.

Public meetings are scheduled in Alaska at the following locations: Anchorage, Homer, and King Salmon, Alaska. The specific dates and times of the meetings and public meetings will be announced in local media.

Before including your address, phone number, email address, or other personal identifying information in your comment, you should be aware that your entire comment—including your personal identifying information—may be made publicly available at any time. While you can ask us to withhold your personal information from public review we cannot guarantee that we will be able to do so. We will always make submissions from organizations or businesses, and from individuals identifying themselves as representatives of or officials of organizations or businesses, available for public inspection in their entirety.

Sue E. Masica,
Regional Director, Alaska.

[FR Doc. 2012-15285 Filed 6-21-12; 8:45 am]

BILLING CODE 4312-HD-P